DEPARTMENT OF ENERGY

Federal Energy Regulatory Commission

Combined Notice of Filings

Take notice that the Commission has received the following Natural Gas Pipeline Rate and Refund Report filings:

Filings Instituting Proceedings

Docket Numbers: RP13-1119-000.

Applicants: East Tennessee Natural Gas, LLC.

Description: FOSA Clean-up to be effective 9/1/2013.

Filed Date: 7/30/13.

Accession Number: 20130730-5017.

Comments Due: 5 p.m. ET 8/12/13.

Docket Numbers: RP13-1120-000.

Applicants: MarkWest New Mexico, L.L.C.

Description: MarkWest New Mexico Order No. 776 Compliance Filing to be effective 10/1/2013.

Filed Date: 7/30/13.

Accession Number: 20130730-5027.

Comments Due: 5 p.m. ET 8/12/13.

Docket Numbers: RP13-1121-000.

Applicants: MarkWest Pioneer, L.L.C.

Description: MarkWest Pioneer Order No. 776 Compliance Filing to be effective 10/1/2013.

Filed Date: 7/30/13.

Accession Number: 20130730-5028.

Comments Due: 5 p.m. ET 8/12/13.

Docket Numbers: RP13-1122-000.

Applicants: KPC Pipeline, LLC.

Description: KPC Order No. 776 Compliance Filing to be effective 10/1/2013.

Filed Date: 7/30/13.

Accession Number: 20130730-5029.

Comments Due: 5 p.m. ET 8/12/13.

Docket Numbers: RP13-1123-000.

Applicants: NGO Transmission, Inc.

Description: NGO Transmission—Order No. 776 Compliance Filing to be effective 10/1/2013.

Filed Date: 7/30/13.

Accession Number: 20130730-5030.

Comments Due: 5 p.m. ET 8/12/13.

Docket Numbers: RP13-1124-000.

Applicants: Clear Creek Storage Company, L.L.C.

Description: Clear Creek ACA Filing to be effective 10/1/2013.

Filed Date: 7/30/13.

Accession Number: 20130730-5034.

Comments Due: 5 p.m. ET 8/12/13.

Docket Numbers: RP13-1125-000.

Applicants: Alliance Pipeline L.P.

Description: August 1-31, 2013. Auction to be effective 8/1/2013.

Filed Date: 7/30/13.

Accession Number: 20130730-5048.

Comments Due: 5 p.m. ET 8/12/13.

Docket Numbers: RP13-1126-000.

Applicants: Northwest Pipeline LLC.

Description: ACA, Order No. 776 Compliance Filing to be effective 10/1/2013.

Filed Date: 7/30/13.

Accession Number: 20130730-5088.

Comments Due: 5 p.m. ET 8/12/13.

Docket Numbers: RP13-1127-000.

Applicants: Arlington Storage Company, LLC.

Description: Arlington Storage Company, LLC-Order No. 776 Compliance Filing to be effective 10/1/2013.

Filed Date: 7/30/13.

Accession Number: 20130730-5089.

Comments Due: 5 p.m. ET 8/12/13.

Docket Numbers: RP13-1128-000.

Applicants: Cheniere Creole Trail Pipeline, L.P.

Description: Creole Trail Annual Charge Adjustment Filing to be effective 10/1/2013.

Filed Date: 7/30/13.

Accession Number: 20130730-5091.

Comments Due: 5 p.m. ET 8/12/13.

Docket Numbers: RP13-1129-000.

Applicants: Transcontinental Gas Pipe Line Company.

Description: S-2 Tracker Filing Effective 2013-08-01 to be effective 8/1/2013.

Filed Date: 7/30/13.

Accession Number: 20130730-5124.

Comments Due: 5 p.m. ET 8/12/13.

Docket Numbers: RP13-1130-000.

Applicants: Rager Mountain Storage Company LLC.

Description: Rager Mountain ACA Filing to be effective 10/1/2013.

Filed Date: 7/30/13.

Accession Number: 20130730-5125.

Comments Due: 5 p.m. ET 8/12/13.

Docket Numbers: RP13-1131-000.

Applicants: Central New York Oil And Gas, L.L.C.

Description: Central New York Oil And Gas Company LLC—Order No. 776 Compliance Filing to be effective 10/1/2013.

Filed Date: 7/30/13.

Accession Number: 20130730-5126.

Comments Due: 5 p.m. ET 8/12/13.

Docket Numbers: RP13-1132-000.

Applicants: Southwest Gas Transmission Company, A Li.

Description: Annual Charge Adjustment to be effective 10/1/2013.

Filed Date: 7/30/13.

Accession Number: 20130731-5001.

Comments Due: 5 p.m. ET 8/12/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP10-1403-004.

Applicants: Sabine Pipe Line LLC.

Description: Sabine Sections 5 and 6.1.0 Rates and FT Rate Correction to be effective 10/1/2013 under RP10-1403 Filing Type: 580.

Filed Date: 7/30/13.

Accession Number: 20130730-5090.

Comments Due: 5 p.m. ET 8/12/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 31, 2013.
Nathaniel J. Davis, Sr.,
Deputy Secretary.

[FR Doc. 2013-19590 Filed 8-13-13; 8:45 am]

BILLING CODE 6717-01-P